DEPARTMENT OF TRANSPORTATION

Federal Aviation Administration

14 CFR Part 71

[Docket No. FAA-2001-9813; Airspace Docket No. 00-AWA-7]

RIN 2120-AA66

Proposed Modification of the Memphis Class B Airspace Area; TN

AGENCY: Federal Aviation Administration (FAA), DOT.

ACTION: Notice of proposed rulemaking (NPRM).

SUMMARY: This action proposes to modify the Memphis, TN, Class B airspace area. Specifically, this action proposes to reconfigure the sub-area boundaries, add one new sub-area, and lower the altitude floor in certain segments of the Memphis Class B airspace area. In addition, the FAA is proposing to describe the boundaries of the Memphis Class B airspace area using the Memphis Very High Frequency Omnidirectional Range Tactical Air Navigation (VORTAC) facility as the reference point. The FAA is proposing this action to more efficiently align the Memphis Class B airspace area to better accommodate simultaneous parallel instrument landing system (ILS) approach procedures and simultaneous intersecting runway operations. This change would improve the management of air traffic operations and enhance safety in the Memphis Class B airspace area while accommodating the concerns of airspace users.

DATES: Comments must be received on or before January 7, 2002.

ADDRESSES: Send comments on this proposal to the Docket Management System, U.S. Department of Transportation, Room Plaza 401, 400 Seventh Street, SW., Washington, DC 20590-0001. You must identify both docket numbers, FAA-2001-9813/Airspace Docket No. 00-AWA-7, at the beginning of your comments.

You may also submit comments through the Internet to http://dms.dot.gov. You may review the public docket containing the proposal, any comments received, and any final disposition in person in the Dockets Office between 9 a.m. and 5 p.m., Monday through Friday, except Federal holidays. The Dockets Office (telephone 1-800-647-5527) is on the plaza level of the NASSIF Building at the Department of Transportation at the above address.

An informal docket may also be examined during normal business hours at the office of the Regional Air Traffic Division, ASO-500, Federal Aviation Administration, 1701 Columbia Avenue, College Park, GA 30337.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Docket Nos. FAA-2001-9813/Airspace Docket No. 00-AWA-7.” The postcard will be date/time stamped and returned to the commenter. All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded through the internet at http://dms.dot.gov.

Internet users may reach the FAA's web page at http://www.faa.gov or the Federal Register's web page at http://www.access.gpo.gov/nara for access to recently published rulemaking documents.

Any person may also obtain a copy of this NPRM by submitting a request to the FAA, Office of Air Traffic Airspace Management, ATA-400, 800 Independence Avenue, SW., Washington, DC 20591, or by calling (202) 267-8783. Communications must identify both docket numbers of this NPRM. Persons interested in being placed on a mailing list for future NPRM's should call the FAA, Office of Rulemaking, (202) 267-9677, to request a copy of Advisory Circular No. 11-2A, Notice of Proposed Rulemaking Distribution System, which describes the application procedure.

Related Rulemaking Actions

On May 21, 1970, the FAA published the Designation of Federal Airways, Controlled Airspace, and Reporting Points Final Rule (35 FR 7782). This rule provided for the establishment of Terminal Control Airspace (TCA) areas (now known as Class B airspace areas).

On June 21, 1988, the FAA published the Transponder With Automatic Altitude Reporting Capability Requirement Final Rule (53 FR 23356). This rule requires all aircraft to have an altitude encoding transponder when operating within 30 NM of any designated TCA (now known as Class B airspace areas) primary airport from the surface up to 10,000 feet MSL. This rule excluded those aircraft that were not originally certificated with an engine-driven electrical system (or those that have not subsequently been certified with such a system), balloons, or gliders.

On October 14, 1988, the FAA published the Terminal Control Area Classification and Terminal Control Area Pilot and Navigation Equipment Requirements Final Rule (53 FR 40318). This rule, in part, requires the pilot-in-command of a civil aircraft operating within a Class B airspace area to hold at least a private pilot certificate, except for a student pilot who has received certain documented training.

On December 17, 1991, the FAA published the Airspace Reclassification Final Rule (56 FR 65638). This rule discontinued the use of the term “Terminal Control Area” and replaced it with the designation “Class B airspace area.” This change in terminology is reflected in the remainder of this NPRM.

Background

The TCA (now Class B airspace) program was developed to reduce the potential for midair collision in the congested airspace surrounding airports with high density air traffic by providing an area wherein all aircraft are subject to certain operating rules and equipment requirements.

The density of traffic and the type of operations being conducted in the airspace surrounding major terminals increase the probability of midair collisions. In 1970, an extensive study found that the majority of midair collisions occurred between a general aviation (GA) aircraft and an air carrier or military aircraft, or another GA aircraft. The basic causal factor common to these conflicts as the mix of aircraft operating under visual flight rules (VFR) and aircraft operating under instrument flight rules (IFR). Class B airspace areas provide a method to accommodate the increasing number of IFR and VFR operations. The regulatory requirements of these airspace areas afford the greatest protection for the greatest number of people by giving air traffic control increased capability to provide aircraft separation service, thereby minimizing the mix of controlled and uncontrolled aircraft.

The standard configuration of these airspace areas contains three concentric circles centered on the primary airport extending to 10, 20, and 30 nautical miles (NM), respectively. The standard vertical limit of these airspace areas normally should not exceed 10,000 feet mean sea level (MSL), with the floor established at the surface in the inner area and at levels appropriate to the containment of operations in the outer areas. Variations of these criteria may be utilized contingent on the terrain, adjacent regulatory airspace, and factors unique to the terminal area.

On August 19, 1998, the FAA published the revision of the legal description of the Memphis Class B airspace area, TN, Final Rule (63 FR 44374). The FAA took this action due to the relocation of the Memphis VORTAC to a new position 2.85 NM south of the site it had occupied. The Memphis VORTAC was relocated to accommodate airport expansion. This rule revised the Memphis Class B airspace area by changing the reference point for the description of the areas from the Memphis VORTAC to a point-in-space established at the Memphis VORTAC's former geographical coordinates. The intent of that action was to facilitate the relocation of the Memphis VORTAC without changing the actual dimensions, configuration, operating requirements, or charted depiction of the Memphis Class B airspace area.

Memphis International Airport has recorded a continuing increase in daily scheduled air carrier and air taxi operations. Between January 1998 and December 1999, Memphis has experienced a 7.81% growth in scheduled flights with an expected increase of 2.5% annually. Satellite airport operations traffic count is up 57% since 1997. The GA traffic count is up 5% since 1996.

User feedback and operational experience, since the August 19, 1998, revision of the Memphis Class B airspace area, has revealed that the use of a point-in-space reference, for describing the area, places pilots without global positioning system (GPS) navigation equipment in a difficult situation requiring them to remain clear of an area they could not readily identify. Additionally, the current airspace configuration has proven to be inefficient when conducting simultaneous ILS approaches due to the incompatibility with the instrument approach procedures. The current Class B configuration does not allow for the most efficient use of simultaneous parallel instrument approaches and simultaneous intersecting runway operations at Memphis International Airport.

Pre-NPRM Public Input

As announced in the Federal Register on March 14, 2000 (65 FR 13818), two pre-NPRM informal airspace meetings were held on April 27 and May 4, 2000, in Collierville and Memphis, TN, to allow local interested airspace users an opportunity to present input on the design of the planned alteration of the Memphis Class B airspace area. The response to the planned Class B airspace area modification from all participants was favorable. No written adverse comments were received during the 60-day comment period.

The Proposal

The FAA proposes to amend 14 CFR part 71 by modifying the Memphis, TN, Class B airspace area. Specifically, this action (depicted on the attached chart) proposes to expand the lateral limits of Areas A, B, and C, and establish a new Area E in order to improve the containment of turbo-jet aircraft within Class B airspace. In addition, the FAA proposes to redescribe the Memphis Class B airspace area using radials and mileages from the Memphis VORTAC instead of the current point-in-space latitude/longitude position. This change would simplify navigation in the Memphis terminal area for aircraft that are not GPS equipped.

Area A. The FAA proposes to reconfigure Area A (that area beginning at the surface up to 10,000 feet MSL), by slightly expanding the lateral dimensions of the surface area to provide the additional Class B airspace needed for simultaneous parallel ILS approach procedures and to accommodate secondary airport operations. With the exception of Bob White and Freeman Farm Airports, all secondary airports have been excluded from this surface area. Bob White Airport is a privately owned, uncharted airport located approximately 7 miles south southeast of Memphis and 2 miles east of Runway 36R final approach course. Freeman Farm is a privately owned, uncharted airport located approximately 7 miles southeast of Memphis and 5 miles east of Runway 36R final approach course. The FAA has concluded Letters of Agreement with the operators of these private airports to accommodate users and ensure the integrity of Class B airspace operations.

Area B. The FAA proposes to expand the lateral dimensions of Area B (that area beginning at 1,800 feet MSL up to 10,000 feet MSL). This change would ensure the containment of instrument procedures using a 300-foot-per-mile gradient and provide the additional airspace necessary to maximize the use of simultaneous parallel ILS approaches, as well as simultaneous intersecting runway operations using Runway 27. On the east side, the proposed expanded boundary of Area B (between the MEM 090° and 111° radials) has been adjusted to exclude the Olive Branch Airport (OLV) from Area B.

Area C. The FAA proposes to extend the boundaries of Area C (that area beginning at 3,000 feet MSL up to 10,000 feet MSL), outward to the MEM 30-mile arc in the segments to the north and south of the Memphis International Airport. This change would lower the floor of Class B airspace to 3,000 feet MSL in the Area C extensions to ensure the efficient use of simultaneous parallel approach procedures.

Area D. The FAA proposes to reconfigure Area D (that area beginning at 5,000 feet MSL up to 10,000 feet MSL) by reducing the size of the area. The revised Area D would consist of that airspace generally between the 20- and 30-mile arcs of the Memphis VORTAC, and bounded by the 199° radial clockwise to the 332° radial. The remaining portion of the current Area D airspace would be incorporated into the amended Area C, and the proposed new Area E.

Area E. The FAA proposes to establish a new Area E (that area beginning at 4,000 feet MSL up to 10,000 feet MSL) on the east side of the airport in airspace that is currently part of Area D. Area E would consist of that airspace generally between the 20-mile and 30-mile arcs of the MEM VORTAC and bounded by the MEM 019° radial, clockwise to the 151° radial. This change would lower the floor of Class B airspace from the current 5,000 feet MSL to 4,000 feet MSL. The lower floor of Class B airspace is required to contain Runway 27 approach procedures.

The coordinates for this airspace docket are based on North American Datum 83. Class B airspace areas are published in paragraph 3000 of FAA Order 7400.9J, dated August 31, 2001, and effective September 16, 2001, which is incorporated by reference in 14 CFR section 71.1. The Class B airspace area listed in this document would be published subsequently in the Order.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its minimal costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

This NPRM would modify the Memphis, TN, Class B airspace area. The proposed rule would reconfigure the sub-area boundaries, add one new sub-area and lower the altitude floor in certain segments of that airspace. In addition, the FAA is proposing to describe the boundaries of the Memphis Class B airspace area using the Memphis VORTAC facility as the reference point.

The NPRM would generate benefits for system users and the FAA in the form of enhanced operational efficiency and simplified navigation in the Memphis terminal area for aircraft that are not GPS equipped. Since Class B airspace is already in place at Memphis, and the modifications proposed are not a major expansion of Class B airspace, minimal costs would result. Thus, the FAA has determined that this proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule would have a significant economic impact on a substantial number of small entities. If the determination is that it would, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some minimal circumnavigation costs on some individuals operating in the Memphis area; but the proposed rule would not impose any costs on small business entities. Accordingly, pursuant to the Regulatory Flexibility Act, 5 U.S.C. 605(b), the Federal Aviation Administration certifies that this proposed rule would not have a significant economic impact on a substantial number of small entities. The FAA solicits comments from affected entities with respect to this finding and determination.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards. In addition, consistent with the Administration's belief in the general superiority and desirability of free trade, it is the policy of the Administration to remove or diminish to the extent feasible, barriers to international trade, including both barriers affecting the export of American goods and services to foreign countries and barriers affecting the import of foreign goods and services into the United States.

The proposed rule is not expected to affect trade opportunities for U.S. firms doing business overseas or for foreign firms doing business in the United States.

Unfunded Mandates Assessment

Title II of the Unfunded Mandates Reform Act of 1995 (the Act), enacted as Public Law 104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

Paperwork Reduction Act

In accordance with the Paperwork Reduction Act of 1980 (Pub. L. 96-511), there are no requirements for information collection associated with this proposed rule.

Conclusion

In view of the minimal or zero cost of compliance of the proposed rule and the enhancements to operational efficiency that do not reduce aviation safety, the FAA has determined that the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated September 1, 2001, and effective September 16, 2001, is amended as follows:

Paragraph 3000—Subpart B-Class B Airspace

* * * * *

ASO TN B Memphis, TN [Revised]

Memphis International Airport (Primary Airport)

(lat. 35°02′33″N., long. 89°58′36″ W.)

Memphis VORTAC (MEM)

(lat. 35°00′54″ N., long. 89°59′00″W.)

Boundaries

Area A. That airspace extending upward from the surface to and including 10,000 feet MSL within the area bounded by a line beginning at the intersection of the MEM 090° radial and the MEM 5-mile arc; thence clockwise along the 5-mile arc to the MEM 270° radial; thence west along the 270° radial to the 8-mile arc; thence clockwise along the 8-mile arc to the MEM 090° radial; thence west along the 090° radial to the point of beginning.

Area B. That airspace extending upward from 1,800 feet MSL to and including 10,000 feet MSL within the area bounded by a line beginning at the intersection of the MEM 090° radial and the MEM 12-mile arc; thence west along the 090° radial to the MEM 9-mile arc; thence clockwise along the 9-mile arc to the MEM 111° radial; thence southeast along the 111° radial to the MEM 12-mile arc; thence clockwise along the 12-mile arc to the MEM 134° radial; thence southeast along the 134° radial to the MEM 16-mile arc; thence clockwise along the 16-mile arc to the MEM 217° radial; thence northeast along the 217° radial to the MEM 12-mile arc thence clockwise along the 12-mile arc to the MEM 313° radial; thence northwest along the 313° radial to the MEM 16-mile arc; thence clockwise along the 16-mile arc to the MEM 038° radial; thence southwest along the 038§ radial to the MEM 12-mile arc; thence clockwise along the 12-mile arc to the point of beginning.

Area C. That airspace extending upward from 3,000 feet MSL to and including 10,000 feet MSL within the area bounded by a line beginning at the intersection of the MEM 019° radial and the MEM 30-mile arc; thence southwest along the 019° radial to the MEM 20-mile arc; thence clockwise along the 20-mile arc to the MEM 151° radial; thence southeast along the 151° radial to the 151° radial at 27-miles; thence via a line drawn southwestward to the intersection of the MEM 163° radial and the MEM 30-mile arc; thence clockwise along the 30-mile arc to the MEM 199° radial; thence northeast along the 199° radial to the MEM 20-mile arc; thence clockwise along the 20-mile arc to the MEM 332° radial; thence northwest along the 332° radial to the 332° radial at 29-miles; thence via a line drawn northeastward to the intersection of the MEM 338° radial and the MEM 30-mile arc; thence clockwise along the 30-mile arc to the point of beginning.

Area D. That airspace extending upward from 5,000 feet MSL to and including 10,000 feet MSL within the area bounded by a line beginning at the intersection of the MEM 199° radial and the MEM 20-mile arc; thence southwest along the 199° radial to the MEM 30-mile arc; thence clockwise along the 30-mile arc to the MEM 302° radial; thence via a line drawn northeastward to the MEM 332° radial at 29-miles; thence southeast along the MEM 332° radial to the MEM 20-mile arc; thence counterclockwise along the 20-mile arc to the point of beginning.

Area E. That airspace extending upward from 4,000 feet MSL to and including 10,000 feet MSL within the area bounded by a line beginning at the intersection of the MEM 019° radial and the MEM 30-mile arc; thence clockwise along the 30-mile arc to the MEM 103° radial; thence via a line drawn southwestward to the MEM 151° radial at 27-miles; thence northwest along the 151° radial to the MEM 20-mile arc; thence counterclockwise along the 20-mile arc to the MEM 019° radial; thence northeast along the 019° radial to the point of beginning.

* * * * *

Issued in Washington, DC, on October 29, 2001.
Reginald C. Matthews,
Manager, Airspace and Rules Division.

BILLING CODE 4910-13-P

[FR Doc. 01-27999 Filed 11-6-01; 8:45 am]

BILLING CODE 4910-13-C